DEPARTMENT OF TRANSPORTATION

National Highway Traffic Safety Administration

49 CFR Parts 573, 577, and 579

[Docket No. NHTSA—2012-0068; Notice 3]

RIN 2127-AK72

Early Warning Reporting, Foreign Defect Reporting, and Motor Vehicle and Equipment Recall Regulations; Meeting

AGENCY: National Highway Traffic Safety Administration (NHTSA), Department of Transportation (DOT).

ACTION: Meeting Notice—Technical Specification for Vehicle Identification Number (VIN) Look-up Interface.

SUMMARY: On August 20, 2013, NHTSA published a final rule requiring certain vehicle manufacturers to allow the secure electronic transfer of manufacturer recall data to NHTSA when a consumer submits VIN information to the agency's Web site for purposes of learning recall information about the vehicle. NHTSA will host a public meeting on the technical specifications that vehicle manufacturers will` need in order to support the VIN-based safety recalls look-up tool that will be housed on the NHTSA Web site www.safercar.gov. The purpose of this meeting is to discuss the details of the technical specifications, answer any technical concerns or questions, and hear feedback on the technical specifications.

DATES: The meeting will be held on January 22, 2014, from 1 p.m. to 3 p.m. EST.

ADDRESSES: The meeting will be an online web meeting available at https://www.teleconference.att.com/servlet/AWMlogin. Attendees must register by C.O.B. January 17, 2014. To register please send an email to alexander.ansley@dot.gov with the names of your participants and how many web meeting connections you require (e.g. 5 participants logging in between 2 computers). In order to permit sufficient access to all those that wish to attend, we request that each manufacturer, company, or group, as applicable, limit the number of its meeting connections to three.

Login instructions will be provided to registered attendees on or about January 21, 2014.

FOR FURTHER INFORMATION CONTACT: Jennifer Timian, Chief, Recall Management Division, National Highway Traffic Safety Administration, telephone 202-366-0209, email jennifer.timian@dot.gov.

SUPPLEMENTARY INFORMATION: On August 20, 2013, NHTSA published a final rule requiring certain vehicle manufacturers to allow the secure electronic transfer of manufacturer recall data to NHTSA when a consumer submits VIN information to the agency's Web site for purposes of learning vehicle recall information. See 78 FR 51382, 51401. This requirement applies to manufacturers who manufacture 25,000 light vehicles annually or 5,000 motorcycles annually. Further information about the requirement to transfer recall data to NHTSA based upon a consumer's VIN may be found in the August 20, 2013 final rule. Id.

Manufacturers with early warning reporting (EWR) accounts may obtain a copy of the VIN look-up interface technical specifications through the agency's Web site. To obtain the technical specifications, these manufacturers should use their EWR account credentials to access the secure Web page at http://www-odi.nhtsa.dot.gov/ewr/login.cfm. After logging in to the EWR system, the document labeled “NEW—Technical Specifications for VIN Lookup Interface” can be found on the next page. For any manufacturer, company, or group that does not have an EWR account, please contact Alex Ansley at alexander.ansley@dot.gov to receive a copy of the technical specification.

The public meeting will be hosted online at https://www.teleconference. att.com/servlet/AWMlogin. However, if there is sufficient interest, we may also host meeting at the DOT headquarters in Washington, DC in tandem with the online web meeting. When registering for the meeting on January 22nd, attendees should indicate if they plan to attend in-person.

Meeting access instructions will be sent to registered participants on or about January 21, 2014.

Please note this meeting will not include discussion or review of the web-based recalls portal manufacturers will soon utilize to manage safety recalls. We will publish another public notice in the Federal Register once the recalls portal is developed and we are able to offer the requisite training.

Frank S. Borris II,
Director, Office of Defects Investigation, NHTSA.

[FR Doc. 2013-30669 Filed 12-24-13; 8:45 am]

BILLING CODE 4910-59-P